DEPARTMENT OF TRANSPORTATION

Coast Guard

[USCG 2001-10031]

Collection of Information Under Review by Office of Management and Budget (OMB): OMB Control Numbers 2115-0043 and 2115-0076

AGENCY: Coast Guard, DOT.

ACTION: Request for comments.

SUMMARY: In compliance with the Paperwork Reduction Act of 1995, the Coast Guard intends to seek the approval of OMB for the renewal of two Information Collection Requests (ICRs). The ICRs comprise (1) Plan Approval and Records for Load Lines, and (2) Security Zones, Regulated Navigation Areas, and Safety Zones. Before submitting the ICRs to OMB, the Coast Guard is requesting comments on the items described below.

DATES: Comments must reach the Coast Guard on or before September 10, 2001.

ADDRESSES: You may mail comments to the Docket Management System (DMS) [USCG 2001-10031], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for these requests. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on these documents; or Dorothy Beard, Chief, Documentary Services Division, U.S. Department of Transportation, 202-366-5149, for questions on the docket.

Request for Comments

The Coast Guard encourages interested persons to submit written comments. Persons submitting comments should include their names and addresses, identify this document [USCG 2001-10031], and give the reason for the comments. Please submit all comments and attachments in an unbound format no larger than 8½ by 11 inches, suitable for copying and electronic filing. Persons wanting acknowledgment of receipt of comments should enclose stamped self-addressed postcards or envelopes.

Information Collection Request

1. Title: Plan Approval and Records for Load Lines.

OMB Control Number: 2115-0043.

Summary: Collecting this information helps the Coast Guard ensure that certain vessels are not loaded deeper than appropriate for safety. Vessels over 150 gross tons or 79 feet in length engaged in commerce on international or coastwise voyages by sea must obtain Load Line Certificates.

Need: Sections 5501 to 5516 of Title 46, U.S.C., provide the Coast Guard with the authority to enforce provisions of the International Load Line Convention, 1966. 46 CFR Part E—Load Lines—contains the relevant rules.

Respondents: Owners and operators of vessels.

Frequency: On occasion.

Burden Estimate: The estimated burden is 1,916 hours a year.

2. Title: Security Zones, Regulated Navigation Areas, and Safety Zones.

OMB Control Number: 2115-0076.

Summary: The Coast Guard collects this information only when someone seeks a security zone, regulated navigation area, or safety zone. It uses the information to assess the need to establish one of these areas.

Need: Parts 6 and 165 of Title 33, CFR, give the Coast Guard Captain of the Port (COTP) the authority to designate security zones in the U.S. for as long as he or she deems necessary to prevent damage or injury. 33 U.S.C. 1223 authorizes the Coast Guard to prescribe rules to control vessel traffic in areas he or she deems hazardous because of reduced visibility, adverse weather, or vessel congestion. 33 U.S.C. 1225 authorizes the Coast Guard to establish rules to allow the designation of safety zones where access is limited to authorized persons, vehicles, or vessels to protect the public from hazardous situations.

Respondents: Federal, State, and local government agencies, vessels, and facilities.

Frequency: On occasion.

Burden Estimate: The estimated burden is 417 hours a year.

Dated: July 2, 2001.
V.S. Crea,
Director of Information and Technology.

[FR Doc. 01-17109 Filed 7-9-01; 8:45 am]

BILLING CODE 4910-15-U